DEPARTMENT OF HOMELAND SECURITY

Coast Guard

33 CFR Part 117

[USCG-2008-0104]

RIN 1625-AA-09

Drawbridge Operation Regulations; Atlantic Intracoastal Waterway (AIWW); Wrightsville Beach, NC

AGENCY: Coast Guard, DHS.

ACTION: Notice of temporary deviation from regulations.

SUMMARY: The Commander, Fifth Coast Guard District, has issued a temporary deviation from the regulation governing the operation of the S.R. 74 Bridge, across the AIWW mile 283.1 at Wrightsville Beach, NC, to accommodate the annual race.

DATES: This deviation is effective from 8 a.m. to 9:30 a.m. on March 15, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Mr. Gary S. Heyer, Bridge Management Specialist, Fifth Coast Guard District, at (757) 398-6629.

SUPPLEMENTARY INFORMATION: The S.R. 74 Bridge, a lift drawbridge, has a vertical clearance in the closed position to vessels of 20 feet, above mean high water.

The North Carolina Department of Transportation (the bridge owner) requested a temporary deviation from the current operating regulation set out in 33 CFR 117.821(a)(5) to accommodate the Knights of Columbus Shamrock Fun Run and Walk scheduled for Saturday, March 15, 2008.

The Coast Guard will inform the users of the waterway through our Local and Broadcast Notices to Mariners of the closure period for the bridge so that vessels can arrange their transits to minimize any impact caused by the temporary deviation.

To facilitate the race, the S.R. 74 Bridge will be maintained in the closed-to-navigation position from 8 a.m. to 9:30 a.m. on March 15, 2008.

In accordance with 33 CFR 117.35(e), the drawbridge must return to its regular operating schedule immediately at the end of the designated time period. This deviation from the operating regulations is authorized under 33 CFR 117.35.

We analyzed this temporary deviation under Commandant Instruction M16475.lD and Department of Homeland Security Management Directive 5100.1, which guide the Coast Guard in complying with the National Environmental Policy Act of 1969 (NEPA) (42 U.S.C. 4321-4370f). The environmental impact that this temporary deviation will have is minimal because the drawbridge being closed to vessels for a period of an hour and a half will not result in a change in functional use, or an impact on a historically significant element or setting.

Dated: February 20, 2008.
Waverly W. Gregory, Jr.,
Chief, Bridge Administration Branch, Fifth Coast Guard District.

[FR Doc. E8-3834 Filed 2-28-08; 8:45 am]

BILLING CODE 4910-15-P